DEPARTMENT OF DEFENSE

Office of the Secretary

[Docket ID: DoD-2024-OS-0095]

Submission for OMB Review; Comment Request

AGENCY: Office of the Under Secretary of Defense for Personnel and Readiness (OUSD(P&R)), Department of Defense (DoD).

ACTION: 30-Day information collection notice.

SUMMARY: The DoD has submitted to the Office of Management and Budget (OMB) for clearance the following proposal for collection of information under the provisions of the Paperwork Reduction Act.

DATES: Consideration will be given to all comments received by December 23, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Record of Military Processing-Armed Forces of the United States; DD Form 1966/USMEPCOM FORM 680-3A-E; OMB Control Number 0704-0173.

Type of Request: Revision.

Number of Respondents: 423,000.

Responses per Respondent: 2.

Annual Responses: 846,000.

Average Burden per Response: 21 minutes.

Annual Burden Hours: 296,100.

Needs and Uses: Title 10 United States Code (U.S.C.), sections 504, 505, 508, and 1012; title 14 U.S.C., sections 351 and 632; title 50 U.S.C., Appendix section 451; and Executive Order 9397 require applicants to meet standards for enlistment into the Armed Forces. This information collection is the basis for determining eligibility of applicants for enlistment in the Armed Forces and is needed to verify data given by the applicant and to determine his/her qualification of enlistment. The information collected aids in the determination of qualifications, terms of service, and grade in which a person, if eligible, will enter active duty or reserve status. The information collected is used to feed other DoD and service-specific forms that later would be used to issue identification cards and receive benefits associated with military service.

Affected Public: Individuals or households.

Frequency: On occasion.

Respondent's Obligation: Voluntary.

OMB Desk Officer: Ms. Jasmeet Seehra.

DoD Clearance Officer: Mr. Reginald Lucas.

Dated: November 19, 2024.
Stephanie J. Bost,
Alternate OSD Federal Register Liaison Officer, Department of Defense.

[FR Doc. 2024-27404 Filed 11-21-24; 8:45 am]

BILLING CODE 6001-FR-P